DEPARTMENT OF COMMERCE

International Trade Administration

[A-570-827]

Extension of Time Limit for Final Results in the 2004-2005 Antidumping Duty Administrative Review: Certain Cased Pencils From the People's Republic of China

AGENCY: Import Administration, International Trade Administration, Department of Commerce.

DATES: Effective Date: April 3, 2007.

FOR FURTHER INFORMATION CONTACT: Magd Zalok or Drew Jackson, AD/CVD Operations, Office 4, Import Administration, International Trade Administration, U.S. Department of Commerce, 14th Street and Constitution Avenue, NW., Washington, DC 20230; telephone (202) 482-4162 or (202) 482-4406, respectively.

SUPPLEMENTARY INFORMATION:

Background

On February 1, 2006, the Department of Commerce (the Department) published in the Federal Register a notice of initiation of an administrative review of the antidumping duty order on certain cased pencils from the People's Republic of China (PRC) covering the period December 1, 2004, through November 30, 2005. See Initiation of Antidumping and Countervailing Duty Administrative Reviews and Request for Revocation in Part, 71 FR 5241 (February 1, 2006). On December 7, 2006, the Department published in the Federal Register the preliminary results of the instant review. See Certain Cased Pencils from the People's Republic of China; Preliminary Results of Antidumping Duty Administrative Review, 71 FR 70949. The final results of review are currently due no later than April 6, 2007.

Extension of Time Limit for Final Results of Review

Section 751(a)(3)(A) of the Tariff Act of 1930, as amended (the Act), requires the Department to make a final determination in an antidumping duty administrative review within 120 days after the date on which the preliminary determination is published. However, if it is not practicable to complete the review within this time period, section 751(a)(3)(A) of the Act allows the Department to extend the time limit for the final determination to 180 days from the date of publication of the preliminary determination (or 300 days if the Department has not extended the time limit for the preliminary determination). We have determined that it is not practicable to complete the final results of this review within the original time limit because the Department requires additional time to consider a number of complex issues involving, inter alia, the valuation of a major input, and selection of a surrogate source for manufacturing overhead expenses, general expenses, and profit. Therefore, in accordance with section 751(a)(3)(A) of the Act, the Department is extending the time period for completion of these final results of review by 30 days. We intend to issue the final results of review no later than May 7, 2007 (the first business day after the extended due date of May 6, 2007).

Dated: March 28, 2007.
Stephen J. Claeys,
Deputy Assistant Secretary for Import Administration.

[FR Doc. E7-6161 Filed 4-2-07; 8:45 am]

BILLING CODE 3510-DS-P